NATIONAL COUNCIL ON DISABILITY

Youth Advisory Committee Meetings (Teleconferences)

AGENCY: National Council on Disability (NCD).

Pursuant to the Federal Advisory Committee Act, P. L. 92-463, NCD gives notice that the Youth Advisory Committee will hold meetings on the dates and times noted below. The Committee will meet by conference call. All meetings are open to the public.

DATES AND TIMES:

Thursday, November 15, 2007, 4 p.m. EST.

Thursday, January 17, 2008, 4 p.m. EST.

Thursday, April 17, 2008, 4 p.m. EDT.

Place: National Council on Disability, 1331 F Street, NW., Suite 850, Washington, DC

Status: All parts of these conference calls will be open to the public. People interested in observing on conference calls should contact the appropriate staff member listed below. Due to limited resources, only a few telephone lines will be available for each conference call.

Agenda: Roll call, announcements, reports, new business, adjournment. A detailed agenda will be posted 10 days before each meeting at http://www.ncd.gov/newsroom/advisory/youth/youth.htm.

FOR FURTHER INFORMATION CONTACT: Gerrie Drake Hawkins, Ph.D., Senior Program Analyst, National Council on Disability, 1331 F Street, NW., Suite 850, Washington, DC 20004; 202-272-2004 (voice), 202-272-2074 (TTY), 202-272-2022 (fax), youth@ncd.gov (e-mail).

Accommodations: People needing reasonable accommodations should notify NCD at least two weeks before this meeting.

Youth Advisory Committee Mission: The purpose of NCD's Youth Advisory Committee is to provide input into NCD activities consistent with the values and goals of the Americans with Disabilities Act.

Dated: October 16, 2007.
Michael C. Collins,
Executive Director.

[FR Doc. E7-21033 Filed 10-24-07; 8:45 am]

BILLING CODE 6820-MA-P